DEPARTMENT OF ENERGY

Federal Energy Regulatory Commission

Combined Notice of Filings

Take notice that the Commission has received the following Natural Gas Pipeline Rate and Refund Report filings:

Filings Instituting Proceedings

Docket Number: PR18-62-000.

Applicants: Rocky Mountain Natural Gas LLC.

Description: Tariff filing per 284.123(b),(e)/: Rocky Mountain Natural Gas LLC SOC Filing to be effective 6/1/2018.

Filed Date: 6/26/18.

Accession Number: 20180626-5073.

Comments/Protests Due: 5 p.m. ET 7/17/18.

Docket Numbers: RP18-909-000.

Applicants: Transcontinental Gas Pipe Line Company.

Description: § 4(d) Rate Filing: Negotiated Rates—Cherokee AGL—Replacement Shippers—Jul 2018 to be effective 7/1/2018.

Filed Date: 6/27/18.

Accession Number: 20180627-5033.

Comments Due: 5 p.m. ET 7/9/18.

Docket Numbers: RP18-910-000.

Applicants: Algonquin Gas Transmission, LLC.

Description: § 4(d) Rate Filing: Negotiated Rate—Boston Gas to BBPC 796772 to be effective 7/1/2018.

Filed Date: 6/27/18.

Accession Number: 20180627-5073.

Comments Due: 5 p.m. ET 7/9/18.

Docket Numbers: RP18-911-000.

Applicants: Texas Eastern Transmission, LP.

Description: § 4(d) Rate Filing: Negotiated Rate—Noble Energy #8951606 eff 7-1-18 to be effective 7/1/2018.

Filed Date: 6/27/18.

Accession Number: 20180627-5114.

Comments Due: 5 p.m. ET 7/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2018.
Kimberly D. Bose,
Secretary.

[FR Doc. 2018-14555 Filed 7-6-18; 8:45 am]

BILLING CODE 6717-01-P